DEPARTMENT OF HEALTH AND HUMAN SERVICES

National Institutes of Health

Center for Scientific Review; Amended Notice of Meeting

Notice is hereby given of a change in the meeting of the Center for Scientific Review Special Emphasis Panel PAR23-156: Lasker Clinical Research Scholars Program, November 21, 2023, 9:00 a.m. to 5:00 p.m., National Institutes of Health, 6701 Rockledge Drive, Bethesda, MD 20892 which was published in the Federal Register on October 4, 2023, 88 FR 68640 FR Doc No. 2023-21888.

This meeting is being amended to change the meeting date from November 21, 2023, to November 8, 2023, and the time from 9:00 a.m.-5:00 p.m. to 9:30 a.m.-4:00 p.m. The meeting is closed to the public.

Dated: October 17, 2023.
Melanie J. Pantoja,
Program Analyst, Office of Federal Advisory Committee Policy.

[FR Doc. 2023-23230 Filed 10-19-23; 8:45 am]

BILLING CODE 4140-01-P